DEPARTMENT OF TRANSPORTATION

Federal Aviation Administration

Approval of Noise Compatibility Program for McClellan Palomar Airport, Carlsbad, CA

AGENCY: Federal Aviation Administration, DOT.

ACTION: Notice.

SUMMARY: The Federal Aviation Administration (FAA) announces its findings on the noise compatibility program submitted by San Diego County, California under the provisions of Title I of the Aviation Safety and Noise Abatement Act, as amended, (Public Law96-193) (hereinafter referred to as “the Act”) and 14 CFR Part 150. These findings are made in recognition of the description of Federal and nonfederal responsibilities in Senate Report No. 96-52 (1980). On April 26, 2005, the FAA determined that the noise exposure maps submitted by San Diego County under Part 150 were in compliance with applicable requirements.

EFFECTIVE DATE: The effective date of the FAA's approval of the Noise Compatibility Program for McClellan Palomar Airport is December 5, 2006.

FOR FURTHER INFORMATION CONTACT: Victor Globa, Environmental Protection Specialist, Los Angeles Airports District Office, Airport Division, Western-Pacific Region, Federal Aviation Administration, 15000 Aviation Boulevard, Hawthorne, California, 90261, Mailing Address: P.O. Box 92007, Los Angeles, California 90009-2007. Telephone: 310/725-3637. Documents reflecting this FAA action may be reviewed at this same location.

SUPPLEMENTARY INFORMATION: This notice announces that the FAA has given its overall approval to the Noise Compatibility Program for McClellan Palomar Airport, effective April 7, 2004. Under section 104(a) of the Aviation Safety and Noise Abatement Act of 1979, as amended (herein after referred to as the “Act”) [recodified as 49 U.S.C. § 47504], an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal program. The FAA does not substitute its judgement for that of the airport proprietor with respect to which measures should be recommended for action. The FAA's approval or disapproval of 14 CFR Part 150 program recommendations is measured according to the standards expressed in Part 150 and the Act and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR part 150, section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where Federal funding is sought, requests for project grants must be submitted to the FAA Airports District Office in Hawthorne, California.

San Diego County submitted to the FAA on September 13, 2004, the Noise Exposure Maps, descriptions, and other documentation produced during the noise compatibility planning study conducted from December 1, 2002 through March 24, 2006. The McClellan Palomar Airport Noise Exposure Maps were determined by FAA to be in compliance with applicable requirements on April 26, 2005. Notice of this determination was published in the Federal Register on May 10, 2005 (70 FR 24671).

The McClellan Palomar Airport study contains a proposed noise compatibility program comprised of actions designed for phased implementation by airport management and adjacent jurisdictions from (2004 to beyond the year 2009). It was requested that the FAA evaluate and approve this material as a Noise Compatibility Program as described in 49 U.S.C. § 47504 (formerly section 104(b) of the Act). The FAA began its review of the program on June 20, 2006, and was required by a provision of the Act to approve or disapprove the program within 180 days (other than the use of new or modified flight procedures for noise control). Failure to approve or disapprove such program within the 180-day period shall be deemed to be an approval of such program.

The submitted program contained thirty-two (32) proposed actions for noise abatement, land use management and program management on and off the airport. The FAA completed its review and determined that the procedural and substantive requirements of the Act and FAR part 150 have been satisfied. The overall program was approved, by the Manager of the Airports Division, Western-Pacific Region, effective December 5, 2006.

Outright approval was granted for seven (7) of the 10 noise abatement measures, all six (6) land use management measures and twelve (12) program management measures. The approved measures included such items as: Continue the existing published air traffic pattern altitudes; Continue the existing published “Alpha Departure” voluntary noise abatement procedure (VNAP); Continue the existing VNAP, as published on the airport Web site; Continue the existing designation of Runway 24 as the calm wind runway as published in the Airport/Facility Directory; Continue the existing policy discouraging jet aircraft training due to noise abatement and traffic congestion as published in the Airport/Facility Directory; Continue the existing VNAP, as published on the airport's Web site; Amend “Quiet Hours” to include all aircraft except emergency flight operations. Approved Land Use Management Measures include: Provide the recommended Noise Information Notification Area (NINA) boundary to San Diego Geographic Information Source (SanGIS) in both electronic and hard copy formats; Provide the updated Noise Exposure Maps to SanGIS in electronic format, notify San Diego County and the City of Carlsbad that updated Noise Exposure Maps are available through SanGIS and encourage their use in updating the Noise Elements fo their General Plans; Rezone the undeveloped area designated E-A (APN 212-040-56) within the 60 CNEL to “P-M Planned Industrial” zone; Real estate disclosure within the CRQ's established Airport Influence Area should continue; Provide the updated NEMs, AIA, and NINA to SanGIS in electronic format, encourage the California Board of Realtors, San Diego North County Board, and the Building Industry Association—Sales and Marketing Council, North County Division to visit SanGIS Web site for the most updated NEMs, AIA and NINA and work with the aforementioned organizations to develop an “Airport Fact Book” for property sales agents; Provide San Diego County Regional Airport Authority (SDCRAA) with copies of the Final NEM and NCP documents.

Approved Program Management measures include: Hire a dedicated Noise Abatement Officer/Appoint a Permanent Environmental Noise Specialist; The Palomar Airport Advisory Committee should continue to act as a forum for discussion of noise abatement actions; update Maps identifying the noise-sensitive areas around the airport; Produce an Airport Noise Information Booklet; Develop an Official Web site to disseminate VNAP and other noise-related information; Continue to coordinate with the Department of Public Works Public Information Officer to disseminate information to the news media; Continue attending and/or participating in aviation association meetings to expand awareness of VNAP and other noise related issues; Coordinate with the Department of Public Works Public Information officer to periodically distribute VNAP press releases to aviation media; Periodically provide updated VNAP information for distribution by Fixed Base Operators; Erect monument signs on airport property along El Camino Real and Palomar Airport Road to inform drivers of the existence and location of the airport; Produce signs, stickers, etc., using VNAP logo and prominently display and utilize as appropriate; Conduct biannual VNAP training classes and Implement the recently adopted “Fly Friendly Program.”

FAA disapproved the following Noise Abatement measures: When traffic volume permits, CRQ ATCT should instruct pilots to delay the left turn from Runway 24 until aircraft is west of I-5. This measure would adversely impact the efficiency of navigable airspace at CRQ, further deviation from protected routes would place IFR aircraft at risk. Work with FAA to develop a GPS/RNAV departure procedure to emulate the “Alpha Departure” VNAP. This measure was disapproved pending submission of additional information to make an informed decision. The NCP did not quantify this measure's noise reduction benefits.

FAA took no action on the following Noise Abatement Measure: Consider joining Sound Initiative, A Coalition for Quieter Skies. FAA action on this measure would conflict with anti-lobbying restrictions on Federal agencies.

FAA disapproved the following Program Management Measures: Upgrade GEMS software to ANOMS8 and upgrade computer hardware as necessary to support operations of ANOMS8. If eligible for AIP funding, hardware should be upgraded at existing NMTs and two additional NMTs should be installed at CRQ. This measure was disapproved for the purposes of part 150 with respect to Airport Improvement Program funding. Section 189 of Public Law 108-176, Vision 100-Century of Reauthorization Act of 2003 specifically prohibits FAA approval of part 150 program measures that require AIP funding to mitigate aircraft noise outside of DNL (CNEL) 65 through Fiscally Year 2007; When Feasible, CRQ ATCT should encourage the use of the VNAP. This measure was disapproved because implementation of this measure by the ATCT would adversely affect air traffic workload and efficiency; Conduct the recommended workload study. This measure was disapproved because it is outside of the scope of 14 CFR part 150.

These determinations are set forth, in detail, in the Record of Approval signed by the Manager of the Airports Division, Western-Pacific Region, on December 5, 2006. The Record of Approval, as well as other evaluation materials and the documents comprising the submittal, are available for review at the FAA office listed above and at the administrative offices of the San Diego County Public Works Department. The Record of Approval will be available on-line at: http://www.faa.gov/airports_airtraffic/airports/environmental/airport_noise/part_150/states/.

Issued in Hawthorne, California on December 11, 2006.
Mark A. McClardy,
Manager, Airports Division, Western-Pacific Region, AWP-600.

[FR Doc. 06-9740 Filed 12-15-06; 8:45 am]

BILLING CODE 4910-13-M